DEPARTMENT OF HOMELAND SECURITY

Federal Emergency Management Agency

44 CFR Part 65

[Docket No. FEMA-B-7793]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changed BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Tuscaloosa | City of Tuscaloosa (08-04-1080P) | June 11, 2008; June 18, 2008; The Northport Gazette | The Honorable Walter Maddox, Mayor, City of Tuscaloosa, P.O. Box 2089, Tuscaloosa, AL 35403 | October 16, 2008 | 010203
Arizona: Pima | City of Tucson (08-09-0001P) | June 6, 2008; June 13, 2008; The Daily Territorial | The Honorable Bob Walkup, Mayor, City of Tucson, P.O. Box 27210, Tucson, AZ 85726 | May 23, 2008 | 040076
Colorado:
Routt | Unincorporated areas of Routt County (08-08-0085P) | June 8, 2008; June 15, 2008; Steamboat Pilot | The Honorable Nancy Stahoviak, Chairperson, Routt County, Board of County Commissioners, P.O. Box 3598, Steamboat Springs, CO 80477 | May 30, 2008 | 080156
Routt | City of Steamboat Springs (08-08-0085P) | June 8, 2008; June 15, 2008; Steamboat Pilot | The Honorable Paul Antonucci, City Council President, City of Steamboat Springs, P.O. Box 775088, Steamboat Springs, CO 80477 | May 30, 2008 | 080159
Florida: Orange | Unincorporated areas of Orange County (05-04-1535P) | June 5, 2008; June 12, 2008; Orlando Weekly | The Honorable Richard T. Crotty, Mayor, Orange County, 201 South Rosalind Avenue, Fifth Floor, Orlando, FL 32801 | October 10, 2008 | 120179
Illinois:
McHenry | Unincorporated areas of McHenry County (08-05-1169P) | June 12, 2008; June 19, 2008; Northwest Herald | The Honorable Kenneth D. Koehler, Chairman, McHenry County Board, McHenry County Government Center, 2200 North Seminary Avenue, Woodstock, IL 60098 | October 17, 2008 | 170732
McHenry | City of Woodstock (08-05-1169P) | June 12, 2008; June 19, 2008; Northwest Herald | The Honorable Brian Sager, Mayor, City of Woodstock, 121 West Calhoun Street, Woodstock, IL 60098 | October 17, 2008 | 170488
Will County | Village of Frankfort (07-05-5331P) | June 12, 2008; June 19, 2008; Daily Southtown | The Honorable Jim Holland, Mayor, Village of Frankfort, 432 West Nebraska Street, Frankfort, IL 60423 | July 17, 2008 | 170701
Will County | Unincorporated areas of Will County (08-05-1175P) | June 18, 2008; June 25, 2008; Herald News | The Honorable Lawrence M. Walsh, Will County Executive, 302 North Chicago Street, Joliet, IL 60432 | October 23, 2008 | 170695
Indiana: Allen | City of Fort Wayne (08-05-1821P) | June 13, 2008; June 20, 2008; The Journal Gazette | The Honorable Tom Henry, Mayor, City of Fort Wayne, One Main Street, Fort Wayne, IN 46802 | June 3, 2008 | 180003
Minnesota: St. Louis | City of Duluth (07-05-3554P) | June 12, 2008; June 19, 2008; Duluth News Tribune | The Honorable Don Ness, Mayor, City of Duluth, 411 West First Street, Duluth, MN 55802 | October 17, 2008 | 270421
North Carolina: Onslow | City of Jacksonville (08-04-0469P) | June 13, 2008; June 20, 2008; The Daily News | The Honorable Sammy Phillips, Mayor, City of Jacksonville, P.O. Box 128, Jacksonville, NC 28541 | June 6, 2008 | 370178
Pennsylvania | Township of West Hanover (08-03-0651P) | June 12, 2008; June 19, 2008; The Patriot News | The Honorable Larry Hartman, Chair, Board of Supervisors, West Hanover Township, 7171 Allentown Boulevard, Harrisburg, PA 17112 | October 17, 2008 | 421600

(Catalog of Federal Domestic Assistance No. 97.022, “Flood Insurance.”)

Dated: July 8, 2008.
Michael K. Buckley,
Deputy Assistant Administrator for Mitigation, Department of Homeland Security, Federal Emergency Management Agency.

[FR Doc. E8-16550 Filed 7-18-08; 8:45 am]

BILLING CODE 9110-12-P